ENVIRONMENTAL PROTECTION AGENCY

[FRL-6984-6]

Voluntary Guide: Waste Transfer Stations: A Manual for Decision-Making

AGENCY: Environmental Protection Agency (EPA).

ACTION: Notice; release of draft document for public comment.

SUMMARY: EPA, with assistance from the Solid Waste Association of North America Focus Group and the National Environmental Justice Advisory Council Waste Transfer Station Working Group, has developed a draft voluntary guide Waste Transfer Stations: A Manual for Decision-Making (EPA 530-D-01-001). The purpose of the Manual is to promote the use of best practices in transfer station siting, design, and operation to maximize the facilities effectiveness and efficiency, while minimizing their impact on the community. The Manual is designed to assist facility owners and operators; state, local, and tribal environmental managers; and the public evaluate and choose protective practices for the siting, design, and operation of municipal solid waste transfer stations. Before publishing this report in final form, EPA is inviting public comment.

The Manual is divided into four chapters: Introduction, Planning and Siting a Transfer Station, Transfer Station Design and Operation, and Facility Oversight. An appendix provides a quick reference guide and comparative index of all state transfer station regulations, including the applicable regulatory citations. The Manual is designed to complement, not supersede, existing state, local, and tribal solid waste management programs.

A companion citizen's guide, Waste Transfer Stations: Involved Citizens Make the Difference (EPA530-K-01-003), has also been published. This guide is designed to complement the Decision-Making Manual by providing key information citizens need to become involved in the waste transfer station siting, design, and operation decision-making processes. It describes ways in which community members can become actively involved in minimizing a waste transfer station's impact while enhancing its value to the community.

In recent years the nationwide trend in solid waste disposal has been toward the construction of larger, more remote regional landfills. Driving this trend are a number of financial considerations which are heavily influenced by regulatory and social forces. The passing of the federal municipal solid waste landfill criteria in 1991 (Solid Waste Disposal Facility Criteria; Final Rule. 56 FR 50978; October 9, 1991) established new design requirements for municipal waste landfills that significantly add to the construction and operation costs. As older landfills near urban centers reach capacity and begin closing, cities must decide whether to construct new complaint landfills or to seek other disposal options. Many small communities, facing a similar decision, find the cost of upgrading existing facilities or constructing new landfills to be prohibitively high, and opt to close existing facilities. The economies of scale enjoyed by the large remote facilities keeps per ton tipping fees low, which further promotes the practice of long distance waste transfer. For these reasons, many cities and towns are utilizing transfer stations as a component of their waste management system.

DATES: Submit comments on or before August 27, 2001.

ADDRESSES: Commentors must send an original and two copies of their comments referencing docket number F-2001-WTSN-FFFFF to: RCRA Docket Information Center, Office of Solid Waste (5305G), U.S. Environmental Protection Agency, Ariel Rios Building, 1200 Pennsylvania Avenue, NW., Washington, DC 20460. Hand delivery of comments should be made the RCRA Information Center in Arlington, Virginia at the address below. Comments may also be submitted electronically through the Internet to: rcra-docket@epa.gov. Comments in electronic format should also be identified by the docket number F-2001-WTSN-FFFFF. All electronic comments must be submitted as an ASCII file without the use of special characters and any form of encryption.

Commenters should not submit electronically any confidential business information (CBI). An original and two copies of CBI must be submitted under separate cover to: RCRA CBI Document Control Officer, Office of Solid Waste (5305W) U.S. EPA, Ariel Rios Building, 1200 Pennsylvania Avenue, NW., Washington, DC 20460.

Public comments and supporting materials are available for viewing in the RCRA Information Center (RIC), located at Crystal Gateway I, First Floor, 1235 Jefferson Davis Highway, Arlington, VA 22202. The RIC is open from 9 a.m. to 4 p.m., Monday through Friday, excluding Federal holidays. To review docket materials, it is recommended that the public make an appointment by calling 703-603-9230. The public may copy a maximum of 100 pages from any docket at no charge. Additional copies cost $0.15 per page. The index and some supporting material are available electronically.

The official record for this section will be kept in paper form. Accordingly, EPA will transfer all comments received electronically into paper form and place them in the official record, which will also include all comments submitted directly in writing.

EPA responses to comments, whether the comments are written or electronic, will be developed during the finalization of the Decision-Making Manual. EPA will not immediately reply to commentors electronically other than to seek clarification of electronic comments that may be garbled during the transmission or during conversion to paper form, as discussed above.

FOR FURTHER INFORMATION CONTACT: For general information and copies of the Decision-Making Manual, contact the RCRA Hotline at 800-424-9346 or TDD 800-553-7672 (heating impaired). In Washington, DC, metropolitan area, call 703-412-9810 or TDD 703-412-3323. A limited number of paper copies of the Decision-Making Manual are available on a first-come first-serve basis. An electronic copy of the Decision-Making Manual in PDF file format can be obtained from the EPA Internet site at: www.epa.gov/epaoswer/non-hw/transfer.

Questions of a technical or policy nature regarding the Decision-Making Manual may also be directed to Steve Levy at 703-308-7267, or e-mailed to his e-mail address: levy.steve@epa.gov.

SUPPLEMENTARY INFORMATION: Copies of the companion citizen's guide, Waste Transfer Stations: Involved Citizens Make the Difference (EPA530-K-01-003), is also available in hardcopy (from the RCRA Hotline) or electronically from the internet site mentioned above.

Thea McManus,
Acting Director, Municipal and Industrial Solid Waste Division, Office of Solid Waste.

[FR Doc. 01-13408 Filed 5-25-01; 8:45 am]

BILLING CODE 6560-50-P